DEPARTMENT OF COMMERCE

International Trade Administration

Application(s) for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be postmarked on or before May 24, 2012. Address written comments to Statutory Import Programs Staff, Room 3720, U.S. Department of Commerce, Washington, DC 20230. Applications may be examined between 8:30 a.m. and 5:00 p.m. at the U.S. Department of Commerce in Room 3720.

Docket Number: 12-013. Applicant: Washington University in St. Louis, 1 Brookings Dr., Saint Louis, MO 63130. Instrument: Electron Microscope. Manufacturer: FEI Company, Czech Republic. Intended Use: The instrument will be used for research on primitive solar system materials extracted from meteorites as well as on samples from NASA sample return missions, such as STARDUST. The instrument will be used for the preparation of TEM thin sections of micron-sized stardust grains as well as samples extracted from STARDUST Al foils, to increase the understanding of the chemical origin of the solar system and the processes by which its small bodies evolved. Justification for Duty-Free Entry: There are no instruments of the same general category manufactured in the United States. Application accepted by Commissioner of Customs: March 29, 2012.

Docket Number: 12-018. Applicant: The Regents of the University of California, 1 Cyclotron Rd., MS 46R0125, Berkeley, CA 94720. Instrument: Electron Microscope. Manufacturer: FEI Company, Czech Republic. Intended Use: The instrument will be used to investigate the structure and composition of micro- and nano-materials that will be used as light absorbers, catalysts, and membranes in photoelectrochemical devices that are engineered to convert solar energy to fuel. Justification for Duty-Free Entry: There are no instruments of the same general category manufactured in the United States. Application accepted by Commissioner of Customs: March 28, 2012.

Docket Number: 12-019. Applicant: Schepens Eye Research Institute, 20 Staniford St., Boston MA, 02114. Instrument: Electron Microscope. Manufacturer: FEI Company, Czech Republic. Intended Use: The instrument will be used to investigate the genes and proteins that underlie normal and pathologic processes associated with human vision, to allow the repair, prevention, and cure of sight-threatening pathologies. The instrument will be used to examine the ultra structure of biological specimens including eye tissues, using conventional observation as well as immune-electron microscopy. Justification for Duty-Free Entry: There are no instruments of the same general category manufactured in the United States. Application accepted by Commissioner of Customs: March 28, 2012.

Docket Number: 12-020. Applicant: Howard Hughes Medical Institute, 4000 Jones Bridge Rd., Chevy Chase, MD 20815. Instrument: Electron Microscope. Manufacturer: FEI Company, Czech Republic. Intended Use: The instrument will be used to examine the ultrastructural organization of biological specimens such as protein complexes, noninfectious virus and small cells at high resolution to help elucidate their functions. Justification for Duty-Free Entry: There are no instruments of the same general category manufactured in the United States. Application accepted by Commissioner of Customs: April 6, 2012.

Docket Number: 12-021. Applicant: Rice University, ECE Department MS 378 6100 Main Houston, TX. Instrument: Electron Microscope. Manufacturer: FEI Company, Czech Republic. Intended Use: The instrument will be used to fabricate, image, and characterize novel metallic nanostructures, using high resolution imaging, lithography and electron beam assisted gas deposition. The instrument will be used to study the plasmonic properties of chemically synthesized nanoparticles and lithographically synthesized nanostructures. Justification for Duty-Free Entry: There are no instruments of the same general category manufactured in the United States. Application accepted by Commissioner of Customs: April 18, 2012.

Dated: April 25, 2012.
Gregory W. Campbell,
Director of Subsidies Enforcement, Import Administration.

[FR Doc. 2012-10592 Filed 5-3-12; 8:45 am]

BILLING CODE 3510-DS-M